FEDERAL RETIREMENT THRIFT INVESTMENT BOARD

Sunshine Act Notice

Time and Date: 9 a.m. (EST), January 19, 2005.

Place: 4th Floor Conference Room, 1250 H Street, NW., Washington, DC.

Status: Parts will be open to the public and parts closed to the public.

Matters to be Considered:

Parts Open to the Public

1. Approval of the minutes of the December 20, 2004, Board member meeting.

2. Thrift Savings Plan activity report by the Executive Director.

3. Investment policy quarterly review.

Parts Closed to the Public

4. Procurement.

5. Personnel matters.

Contact Person for More Information: Thomas J. Trabucco, Director, Office of External Affairs, (202) 942-1640.

Dated: January 10, 2005.
Elizabeth S. Woodruff,
Secretary to the Board, Federal Retirement Thrift Investment Board.

[FR Doc. 05-721 Filed 1-10-05; 12:56 pm]

BILLING CODE 6760-01-P